DEPARTMENT OF ENERGY

Federal Energy Regulatory Commission

[Docket No. EC05-27-000, et al.]

WPS Energy Services, Inc.; Electric Rate and Corporate Filings

December 17, 2004.

The following filings have been made with the Commission. The filings are listed in ascending order within each docket classification.

1. WPS Energy Services, Inc., WPS Power Development, Inc.

[Docket No. EC05-27-000]

Take notice that on December 8, 2004, WPS Energy Services, Inc. (ESI) and WPS Power Development, Inc. (PDI) (collectively, Applicants) filed pursuant to section 203 of the Federal Power Act U.S.C. 16 and part 33 of the Commission's regulations 18 CFR part 33 (2004), an application requesting Commission authorization to engage in an internal restructuring whereby: (1) PDI will be merged into ESI; and (2) ESI will transfer the assets formerly owned by PDI into a new, wholly-owned subsidiary of ESI called WPS Power Development, LLC.

Applicants state that copies of the filing were served upon the Public Service Commission of Wisconsin and the Michigan Public Service Commission.

Comment Date: 5 p.m. Eastern Time on December 29, 2004.

2. Klondike Wind Power II LLC

[Docket No. EG05-23-000]

On December 14, 2004, Klondike Wind Power II LLC (Klondike II), 1125 NW Couch, Suite 700, Portland, Oregon 97209, filed with the Federal Energy Regulatory Commission an application for determination of exempt wholesale generator status pursuant to part 365 of the Commission's regulations.

Klondike II, states that it is an Oregon limited liability company and that it will be engaged directly and exclusively in the business of owning all or part of one or more eligible facilities, and selling electric energy at wholesale. Klondike II explains that it developing a 75-megawatt wind power generation facility to be located in Sherman County, Oregon and that the project will be an eligible facility under section 32(a)(2) of PUHCA.

Klondike II states that it has served a copy of the filing on the Securities and Exchange Commission and the Oregon Public Utility Commission.

Comment Date: 5 p.m. Eastern Time on January 4, 2005.

3. Sweetwater Wind 2 LLC

[Docket No. EG05-24-000]

Take notice that on December 15, 2004, Sweetwater Wind 2 LLC, a Delaware limited liability company (SWW2), filed with the Federal Energy Regulatory Commission an application for determination of exempt wholesale generator status pursuant to part 365 of the Commission's regulations.

SWW2 states that it intends to operate a 91.5-MW wind powered generation facility currently under construction near Sweetwater, Nolan County, Texas (the Facility). SWW2 explains that, when completed, the electric energy produced by the facility will be sold into the wholesale power market of the Electric Reliability Council of Texas. SWW2 states that the facility is expected to begin commercial operation by December 31, 2004.

Comment Date: 5 p.m. Eastern Time on January 5, 2005.

4. New York Independent System Operator, Inc.

[Docket No. EL03-26-003]

Take notice that on December 2, 2004, the New York Independent System Operator, Inc., (NYISO) tendered for filing a refund report as required by the Commission's November 17 order in the above captioned docket.

Comment Date: 5 p.m. Eastern Time on December 27, 2004.

5. Credit Suisse First Boston International

[Docket No. ER01-2656-003]

Take notice that on December 13, 2004, Credit Suisse First Boston International (CSFBI) submitted a response to the Commission's November 23, 2004 deficiency letter issued in Docket No. ER01-2656-002. CBFBI states that the filing serves as an amendment to CSFBI's September 20, 2004 filing of a triennial market power analysis.

Comment Date: 5 p.m. Eastern Time on January 3, 2005.

6. ISO New England Inc.

[Docket No. ER02-2330-032]

Take notice that on December 13, 2004, ISO New England Inc. (ISO) submitted a compliance filing providing a status report on the implementation of standard market design in New England.

Comment Date: 5 p.m. Eastern Time on January 3, 2005.

7. New York Independent System Operator, Inc.

[Docket No. ER04-1188-001]

Take notice that on December 10, 2004, the New York Independent System Operator, Inc. (NYISO) submitted a proposed revision to its market administration and control area services tariff that would extend a sunset provision for demand reduction incentive payments under the day-ahead demand response program through October 31, 2005. The NYISO states that this tariff revision was submitted to comply with the Commission's letter order issued October 29, 2004 in Docket No. ER04-1188-000.

The NYISO states that it has served a copy of this filing upon all parties that have executed service agreements and the electric utility regulatory agencies in New York, New Jersey and Pennsylvania.

Comment Date: 5 p.m. Eastern Time on January 3, 2005.

8. Midwest Independent Transmission System Operator, Inc.; Midwest Independent Transmission System Operator, Inc., PJM Interconnection, L.L.C., et al.; Midwest Independent Transmission System Operator, Inc., PJM Interconnection, L.L.C., et al.; Ameren Services Company, et al.

[Docket Nos. ER05-6-001, EL04-135-003, EL02-111-020, EL03-212-017]

Take notice that, on December 10, 2004, PJM Interconnection L.L.C. (PJM) and the PJM Transmission Owners, acting through the PJM and PJM West Transmission Owners Agreement Administrative Committees, tendered for filing with the Commission a correction to the revisions to the PJM open access transmission tariff that were submitted with a compliance filing in this proceeding on November 24, 2004. PJM requests an effective date of December 1, 2004.

PJM states that copies of this filing were served upon all PJM members and utility regulatory commissions in the PJM Region and on parties on the official service list in the above-captioned proceeding.

Comment Date: 5 p.m. Eastern Time on January 7, 2005.

9. Midwest Independent Transmission System Operator, Inc.; Midwest Independent Transmission System Operator, Inc. and PJM Interconnection, LLC, et al.; Midwest Independent Transmission System Operator, Inc. and PJM Interconnection, LLC, et al.; Ameren Services Company, et al.

[Docket Nos. ER05-6-007, EL04-135-009, EL02-111-026, EL03-212-023]

Take notice that, on December 13, 2004, American Electric Power Service Corporation, (AEP) Commonwealth Edison Company and Commonwealth Edison Company of Indiana, Inc., and Dayton Power and Light Company (collectively, Companies) submitted a compliance filing in response to the Commission's order issued November 18, 2004, as clarified by the Commission's November 30, 2004 order in Docket Nos. ER05-6-000, EL04-135-000, EL02-111-010 and EL03-212-018. AEP states that the Companies request an effective date of December 1, 2004.

AEP states that copies of this filing have been served on the entities listed on the official service list.

Comment Date: January 7, 2005.

10. TransCanada Hydro Northeast Inc.

[Docket No. ER05-111-001]

Take notice that on December 13, 2004, TransCanada Hydro Northeast Inc. (TC Hydro NE) filed with the Commission an amendment to its October 29, 2004 application for market-based rate authority. TC Hydro NE notes that the application requested that the Commission accept for filing a Market-Based Tariff for TC Hydro NE, and otherwise grant TC Hydro NE the authority to sell energy and capacity and ancillary services in wholesale transactions at negotiated, market-based rates pursuant to part 35 of the Commission's regulations.

Comment Date: 5 p.m. Eastern Time on January 3, 2005.

11. PSEG Power New York, Inc.

[Docket No. ER05-323-000]

Take notice that on December 13, 2004, PSEG Power New York, Inc. (PSEG Power NY) pursuant to section 205 of the Federal Power Act (FPA), 16 U.S.C. 824b (2000), and section 35.13 of the regulations of the Commission, 18 CFR part 335.13 (2004), requests Commission approval to: (1) Add the Bethlehem Energy Center generating station to the definition of “Generating Unit;” (2) modify their respective tariff regarding the manner in which their revenues are billed on a monthly basis; and (3) clarify the cost elements that comprise the actual operating costs, to explicitly include two additional cost elements to the list of operating costs and to eliminate the corresponding SAP references. PSEG Power NY requests an effective date of January 1, 2005.

PSEG Power NY states that it served a copy of this filing on the parties on the Commission's official service list for this docket.

Comment Date: 5 p.m. Eastern Time on January 3, 2005.

12. PSEG Fossil LLC and PSEG Nuclear LLC

[Docket No. ER05-324-000]

Take notice that on December 13, 2004, PSEG Fossil LLC and PSEG Nuclear LLC (PSEG Fossil) and PSEG Nuclear LLC (collectively, the Applicants) pursuant to section 205 of the Federal Power Act (FPA), 16 U.S.C. 824b (2000), and section 35.13 of the regulations of the Commission, 18 CFR part 335.13 (2004), requests Commission approval to amend their respective tariff regarding the manner in which their revenues are billed on a monthly basis, and to clarify the cost elements that comprise the actual operating costs and to explicitly include two additional cost elements to the list of operating costs.

Applicants state that copies of this filing have been served on the official service list in the above-referenced docket.

Comment Date: 5 p.m. Eastern Time on January 3, 2005.

13. Credit Suisse First Boston Energy, LLC; Credit Suisse First Boston International

[Docket Nos. ER05-325-000, ER05-327-000]

Take notice that on December 13, 2004, Credit Suisse First Boston Energy, LLC (CSFBE) petitioned the Commission for acceptance of CSFBE Rate Schedule FERC No. 1; the granting of certain blanket approvals, including the authority to sell electricity at market-based rates; and the waiver of certain Commission regulations. CSFBE states that on December 13, 2004, Credit Suisse First Boston International (CSFBI) tendered for filing pursuant to section 35.15 of the Commission's regulations, 18 CFR 35.15 (2004), a notice of CSFBI's Electric Rate Schedule FERC No. 1. CSFBI states that it intends to cancel its rate schedule conditioned on the acceptance of CSFBE's Rate Schedule FERC No. 1 and requests that the cancellation of its rate schedule become effective as of the date on which the market-based rate tariff of CSFBE becomes effective.

CSFBE states that it intends to engage in wholesale electric energy and capacity transactions as a marketer and a broker. CSFBE further states that it is not in the business of generating or transmitting electric power. CSFBE explains that it is a Limited Liability Company formed under the laws of the State of Delaware with its principal executive offices in New York, New York. CSFBE indicates that in transactions where CSFBE sells electric power, it proposes to make such sales on rates, terms and conditions to be mutually agreed to with the purchasing party.

Comment Date: 5 p.m. Eastern Time on January 3, 2005.

14. Southwest Power Pool, Inc.

[Docket No. ER05-326-000]

Take notice that on December 13, 2004, Southwest Power Pool, Inc. (SPP) submitted to the Commission revision to its regional Open Access Transmission Tariff (OATT). Specifically, SPP states that it proposes to revise attachments J and P of its OATT in order to ensure proper cost allocation and capacity administration. SPP requests an effective date of February 1, 2005.

SPP states that it has served a copy of its transmittal letter on each of its members and customers. SPP also states that a complete copy of this filing will be posted on the SPP Web site http://www.spp.org, and is also being served on all affected state commissions.

Comment Date: 5 p.m. Eastern Time on January 3, 2005.

15. Rainbow Energy Marketing Corporation

[Docket No. ER94-1061-024

Take notice that on December 13, 2004, Rainbow Energy Marketing Corporation (Rainbow) tendered for filing a triennial review pursuant to the Commission's order issued June 10, 1994 in Docket No. ER94-1061-000.

Comment Date: 5 p.m. Eastern Time on January 3, 2005.

16. Southern Indiana Gas and Electric Company

[Docket No. ER96-2734-003]

Take notice that on December 10, 2004, Southern Indiana Gas and Electric Company, d/b/a Vectren Energy Delivery of Indiana, Inc. (Vectren) tendered for filing an application for renewal of its market-based rate authority and its three-year updated market power analysis as well as other revisions to its MBR Tariff, including revisions to incorporate the Commission's new market behaviour rules.

Vectren states that copies of the filing were served upon the public utility's jurisdictional customers who are located in its control area and the Indiana Utility Regulatory Commission.

Comment Date: 5 p.m. Eastern Time on January 3, 2005.

17. ISO New England Inc., et al., Bangor Hydro-Electric Company, et al., Consumers of New England v. New England Power Pool

[Docket Nos. RT04-2-008 and ER04-116-008, ER04-157-010, EL01-39-008]

Take notice that on December 10, 2004, the New England Power Pool (NEPOOL), through the NEPOOL Participants Committee, ISO New England Inc. (ISO-NE) and the New England transmission owners (collectively, the Settling Parties) submitted a compliance filing to explain how a review board process will operate under the regional transmission organization arrangements for New England. NEPOOL states that the filing is in response to the requirements of the Commission's order issued on November 3, 2004.

NEPOOL states that the copies of the compliance filing were sent to the NEPOOL Participants and the New England state governors and regulatory commissions, as well as all parties on the official service lists in the above-captioned proceedings.

Comment Date: 5 p.m. Eastern Time on January 3, 2005.

18. ISO New England Inc., et al., Bangor Hydro-Electric Company, et al., The Consumers of New England v. New England Power Pool

[Docket Nos. RT04-2-009 and ER04-116-009, ER04-157-011, EL01-39-009]

Take notice that on December 10, 2004, ISO New England Inc., (ISO) and the New England transmission owners New England transmission owners consist of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc.; Fitchburg Gas and Electric Light Company; and Unitil Energy Systems, Inc., submitted a report in response to the Commission's order issued November 3, 2004, 109 FERC ¶61,147 (2004).

ISO states that copies of said filing have been served upon all parties to this proceeding, upon all NEPOOL Participants (electronically), non-participant transmission customers, and the governors and regulatory agencies of the six New England states.

Comment Date: 5 p.m. Eastern Time on January 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3832 Filed 12-27-04; 8:45 am]

BILLING CODE 6717-01-P